CONSUMER FINANCIAL PROTECTION BUREAU

[Docket No: CFPB-2025-0034]

Privacy Act of 1974; System of Records

AGENCY: Consumer Financial Protection Bureau.

ACTION: Notice of a modified system of records.

SUMMARY: The purpose of the Supervision and Examination Records system of record is to enable the Consumer Financial Protection Bureau (CFPB) to carry out its responsibilities with respect to supervised entities to ensure compliance with Federal consumer protection laws and identify unfair, deceptive, or abusive acts and practices in connection with consumer financial products and services. The CFPB's use of records covered by this system of records to conduct and coordinate examinations and reports, supervisory evaluations and analyses, and enforcement actions (including both CFPB activities and collaborations with other financial regulatory agencies); to track and store examination and inspection documents created during the performance of CFPB's statutory duties; and for administrative purposes to ensure quality control, performance, and improving management processes.

DATES: Comments must be received no later than August 14, 2025. The modified system of records will be effective August 25, 2025 unless the comments received result in a contrary determination.

ADDRESSES: You may submit comments, identified by the title and docket number (see above Docket No. CFPB-2025-0034), by any of the following methods:

• Federal eRulemaking Portal: https://www.regulations.gov. Follow the instructions for submitting comments.

• Email: privacy@cfpb.gov. Include Docket No. CFPB-2025-0034 in the subject line of the email.

• Mail/Hand Delivery/Courier: Kathryn Fong, Chief Privacy Officer, Consumer Financial Protection Bureau, 1700 G Street NW, Washington, DC 20552. Because paper mail in the Washington, DC area and at CFPB is subject to delay, commenters are encouraged to submit comments electronically.

All submissions must include the agency name and docket number for this notice. In general, all comments received will be posted without change to https://www.regulations.gov. All comments, including attachments and other supporting materials, will become part of the public record and subject to public disclosure. You should submit only information that you wish to make available publicly. Sensitive personal information, such as account numbers or Social Security numbers, should not be included.

FOR FURTHER INFORMATION CONTACT: Kathryn Fong, Chief Privacy Officer, (202) 435-7058. If you require this document in an alternative electronic format, please contact CFPB_Accessibility@cfpb.gov.

SUPPLEMENTARY INFORMATION: Pursuant to Executive Order 14168 entitled, “Defending Women from Gender Ideology Extremism and Restoring Biological Truth to the Federal Government,” the CFPB is modifying its Privacy Act System of Records Notice (SORN) “CFPB.002—Supervision and Examination Records” to update the “Categories of Records” section, which included “gender” as an example of demographic information, to the term “sex.” The CFPB does not propose any additional modifications to the SORN at this time.

SYSTEM NAME AND NUMBER:

CFPB.002—Supervision and Examination Records.

SECURITY CLASSIFICATION:

Unclassified.

SYSTEM LOCATION:

Consumer Financial Protection Bureau, 1700 G Street NW, Washington, DC 20552.

SYSTEM MANAGER(S):

Program Director, Systems and Registrations, Office of Supervision, Consumer Financial Protection Bureau, 1700 G Street NW, Washington, DC 20552; (202) 435-9633.

CATEGORIES OF RECORDS IN THE SYSTEM:

Categories of records in the system may include: (1) Information regarding customers, prospective customers, or similar individuals who have been contacted by covered persons or service providers or are the subject of a consumer financial product or service, including but not limited to full name, date of birth (DOB); contact information (e.g., address, phone number, email address), and account information (e.g., account numbers, information collected regarding consumer products and services) and demographic information (e.g., sex) associated with an individual; (2) Contact information for officials of institutions including, without limitation, name, address, phone number, and email address; (3) Contact information for staff of Federal, State, local and other government regulators, including, without limitation, name, address, phone number, and email address; (4) Information about CFPB employees assigned to supervision tasks, including, without limitation, name, address, phone number, and email address, and other employment information; and (5) Confidential Supervision Information or Personal Information, including information relating to individuals that is derived from Confidential Supervisory Information or from consumer complaints.

HISTORY:

76 FR 45761 (Aug. 1, 2011); 76 FR 45765 (Aug. 1, 2011); 83 FR 23435 (May 21, 2018); 85 FR 3649 (Jan. 22, 2020); 85 FR 3659 (Jan. 22, 2020); 89 FR 73077 (Oct. 9, 2024).

Kathryn Fong,
Chief Privacy Officer, Consumer Financial Protection Bureau.

[FR Doc. 2025-13221 Filed 7-14-25; 8:45 am]

BILLING CODE 4810-AM-P